DEPARTMENT OF HEALTH AND HUMAN SERVICES

Centers for Disease Control and Prevention

[Program Announcement 02126]

Grants for Dissemination Research of Effective Interventions to Prevent Unintentional Injuries Notice of Availability of Funds; Amendment

A notice announcing the availability of Fiscal Year (FY) 2002 funds for Grants for Dissemination Research of Effective Interventions to Prevent Unintentional Injuries was published in the Federal Register on May 8, Volume 67, Number 89, pages 30935-30938. The notice is amended as follows:

On page 30936, first column, under Section C. Availability of Funds, Paragraph 1, line 1, should be changed to read “Approximately $900,000 is available in FY 2002* * *”

On page 30936, first column, under Section C. Availability of Funds, Paragraph 1, line 2, should be changed to read “* * * to fund approximately three to four awards* * *”

On page 30936, first column, under Section C. Availability of Funds, Paragraph 1, lines 13 through 15, should be changed to read “* * * will not exceed $300,000 (including both direct and indirect costs) per year* * *”

On page 30936, first column, under Section C. Availability of Funds, Paragraph 1, line 15, should be changed to read “* * * $900,000 for a three year project period.”

On page 30937, first column, under Section F. Submission and Deadline, Paragraph 2, line 2, should be changed to read “* * * June 24, 2002, submit the application* * *”

Dated: May 17, 2002.
Edward Schultz,
Acting Director, Procurement and Grants Office, Centers for Disease Control and Prevention.

[FR Doc. 02-12934 Filed 5-22-02; 8:45 am]

BILLING CODE 4163-18-P